DEPARTMENT OF HEALTH AND HUMAN SERVICES

Administration for Children and Families

Office of Refugee Resettlement Single-Source Program Expansion Supplement

AGENCY: Office of Refugee Resettlement, Administration for Children and Families, HHS.

Subject: Single-Source Program Expansion Supplement.

ACTION: Notice to Award a Single-Source Program Expansion Supplement to the North Dakota Department of Human Services (NDHS) under the North Dakota Wilson-Fish Program.

CFDA#: 93.583.

Legislative Authority: The Refugee Act of 1980 as amended, Wilson-Fish Amendment, 8 U.S.C. 1522(e)(7); section 412(e)(7)(A) of the Immigration and Nationality Act.

Amount of Award: $181,184 supplement for current year.

Project Period: 09/30/2005-09/29/2010.

Justification for the Exception to Competition: The Wilson-Fish program is an alternative to the traditional State-administered refugee assistance program for providing integrated assistance and services to refugees, asylees, Amerasian Immigrants, Cuban and Haitian Entrants, Trafficking Victims and Iraqi/Afghani SIV's. North Dakota is one of 12 sites that has chosen this alternative approach.

The supplemental funds will allow the grantee, NDHS, to provide refugee cash assistance through the end of this fiscal year to eligible refugees (and others eligible for refugee benefits) under the North Dakota Wilson-Fish Program.

The primary reason for the grantee's supplemental request is a higher number of arrivals than anticipated when the grantee's budget was submitted and approved last year. The Refugee Act of 1980 mandates that the Office of Refugee Resettlement (ORR) reimburse States and Wilson-Fish projects for the costs of cash and medical assistance for newly arriving refugees. Since 1991, ORR has reimbursed States and Wilson-Fish agencies for providing cash and medical assistance to eligible individuals during their first eight months in the United States.

Hence, the supplement is consistent with the purposes of the Wilson-Fish Program, the Refugee Act of 1980, and ORR policy.

FOR FURTHER INFORMATION CONTACT: Carl Rubenstein, Wilson-Fish Program Manager, Office of Refugee Resettlement, Aerospace Building, 8th Floor West, 901 D Street, SW., Washington, DC 20447. Telephone: 202-205-5933.

Dated: April 6, 2009.
David H. Siegel,
Acting Director, Office of Refugee Resettlement.

[FR Doc. E9-9269 Filed 4-21-09; 8:45 am]

BILLING CODE ;P